DEPARTMENT OF EDUCATION

Applications for New Awards; Educational Technology, Media, and Materials for Individuals With Disabilities—Research and Development Center on Developing Software To Adapt and Customize Instruction in Digital Learning Environments To Improve Results for Children With Disabilities

AGENCY: Office of Special Education and Rehabilitative Services, Department of Education.

ACTION: Notice.

SUMMARY: The Department of Education is issuing a notice inviting applications for new awards for fiscal year (FY) 2017 for Educational Technology, Media, and Materials for Individuals with Disabilities—Research and Development Center on Developing Software to Adapt and Customize Instruction in Digital Learning Environments to Improve Results for Children with Disabilities, Catalog of Federal Domestic Assistance (CFDA) number 84.327A.

DATES:

Applications Available: May 24, 2017.

Deadline for Transmittal of Applications: July 10, 2017.

Deadline for Intergovernmental Review: September 6, 2017.

FOR FURTHER INFORMATION CONTACT: Tara Courchaine, U.S. Department of Education, 400 Maryland Avenue SW., Room 5143, Potomac Center Plaza, Washington, DC 20202-2500. Telephone: (202) 245-6462.

If you use a telecommunications device for the deaf (TDD) or a text telephone (TTY), call the Federal Relay Service (FRS), toll free, at 1-800-877-8339.

SUPPLEMENTARY INFORMATION:

Full Text of Announcement

I. Funding Opportunity Description

Purpose of Program: The purposes of the Educational Technology, Media, and Materials for Individuals with Disabilities Program are to: (1) Improve results for students with disabilities by promoting the development, demonstration, and use of technology; (2) support educational activities designed to be of educational value in the classroom for students with disabilities; (3) provide support for captioning and video description that is appropriate for use in the classroom; and (4) provide accessible educational materials to students with disabilities in a timely manner.

Priority: In accordance with 34 CFR 75.105(b)(2)(v), this priority is from allowable activities specified in the statute (see sections 674(b)(2)and 681(d) of the Individuals with Disabilities Education Act (IDEA) (20 U.S.C. 1474(b)(2) and 1481(d)).

Absolute Priority: For FY 2017 and any subsequent year in which we make awards from the list of unfunded applications from this competition, this priority is an absolute priority. Under 34 CFR 75.105(c)(3), we consider only applications that meet this priority.

This priority is:

Research and Development Center on Developing Software To Adapt and Customize Instruction in Digital Learning Environments To Improve Results for Children with Disabilities.

Background:

The purpose of this priority is to fund a cooperative agreement to establish and operate a research and development center that will develop software designed to adapt and customize digital materials for children with disabilities, whether or not delivered online (Center). The software should enable teachers to differentiate instruction to meet the diverse needs of children with disabilities. In this way, the software will: (a) Enable educators, children with disabilities, and their parents to select settings and preferences that provide access and customize instructional materials to meet their individual needs in digital or online instruction; and (b) self-adjust so that material is presented at appropriate instructional levels based upon an individual child's input.¹ When possible, the software should be embedded during production of the digital materials.

¹ For example, the software could provide user preferences and controls that automatically adapt instructional material to use an equivalent or alternative resource, such as text passages at different Lexile levels or mathematical equations with whole numbers between 1-10 instead of fractions or decimals. These adaptations would maintain the same learning objectives but present material in a mode that is both accessible to the student and personalized to his or her needs. In addition, the applicant may work with a publisher or distributor of existing online programs (curricula) with learning progression management by which the order of presentation to the student changes based upon the student's responses, such as advancing when a certain level of mastery is achieved or moving to additional instruction or practice if the response is inaccurate, etc. This combination of adaptations would maximize the level of customization and personalization for the student.

The IDEA requires the provision of specially designed instruction to children with disabilities, regardless of the manner in which the instruction is delivered (traditional classroom setting, online, hybrid setting) (34 CFR 300.39(a)(1)). Under Department regulations, this means adapting, as appropriate to meet the needs of an eligible child, the content, methodology, or delivery of instruction to address the unique needs of the child that result from the child's disability and to ensure access of the child to the general curriculum (34 CFR 300.39(b)(3)). However, environments that use digital or online instruction or resources may not be specially designed for students with disabilities (Westat, 2016).

The population of students needing specially designed instruction is significant. Recent estimates suggest that, in the 2013-14 school year, more than 2.7 million K-12 students, with and without disabilities, were participating in some type of online learning (Westat, 2016), and approximately 315,000 K-12 students were enrolled in statewide, fully online schools (Evergreen Education Group, 2014). Estimates indicate that more than 75 percent of districts offered at least some instruction online in the 2013-2014 school year (whether fully online or blended) (Evergreen Education Group, 2013). Due to the way data are reported, it is difficult to determine the number of students with disabilities participating in online environments. However, it is possible that the percentage is similar to that of students with disabilities physically in schools (nearly 13 percent), although estimates vary widely (National Center for Education Statistics, 2016; Westat 2016).

In spite of the wide use of digital and online materials in instruction nationwide, there are still challenges to ensuring that (a) digital instructional material is fully accessible to children with disabilities, and (b) educators have the ability to effectively differentiate instruction to meet the individual needs of those children. Educators often incorrectly assume that if instructional material is digital, it is accessible, adaptable, and customizable to meet those children's individual needs; however, that is not necessarily the case. Even though digital materials may provide some access to instructional content, they may not adapt or allow for the customization necessary to ensure that unique needs of children with disabilities are met.

A number of existing technologies can make instructional materials accessible (e.g., text to speech, captioning and highlighting features, embedded videos, digital storybooks, image description, font and size choices), and some of these digital resources provide access to content and help to differentiate instruction for children who are engaged through digital or online platforms; however many obstacles still remain. These include challenges with implementing the supports and services specified in their individualized education programs (IEPs). For example, while font and color options may be readily available in most applications, there are few options to reduce the complexity of language. In addition, accessibility features may not be compatible across all operating systems and platforms.

As a result of these barriers, educators, caregivers, parents, and children may struggle to find the appropriate features in a timely manner and could spend extended periods of time attempting to modify digital materials at the expense of instructional time. In addition, the inclusion of digital materials in instruction is a relatively new practice, and inconsistencies exist in the selection of accessibility features included in the production process. Finally, some of the technology necessary for successful differentiated instruction is in its infancy. Software that has the capability to adjust in complexity based on the child's input is not yet widely available.

If digital learning materials could be more fully and individually customized and adapted across all learning environments, then children with disabilities would have more and better access to the general education curriculum. As such, the Office of Special Education Programs (OSEP) proposes a research center to develop the necessary software to improve results for children with disabilities.

Priority:

The purpose of this priority is to fund a cooperative agreement to establish and operate a Research and Development Center on Developing Software to Adapt and Customize Instruction in Digital Learning Environments to Improve Results for Children with Disabilities. Under this priority, the Center must:

(1) Determine the most effective digital products that are currently available to support differentiated instruction for children with disabilities in digital and online learning environments;

(2) Determine, for each of these products, the key design components that maximize the ability of educators, caregivers, parents, and children to adapt and customize digital content and to differentiate instruction;

(3) Develop and deliver software that meets current industry standards and guidelines for accessibility (e.g., WCAG 2.0, EPUB Accessibility 1.0) ² and includes accessible options that can be embedded into existing learning materials and into new digital learning materials during their development. Options must allow educators, caregivers, parents, and children to customize the instructional material and the software must automatically adjust complexity and delivery based on the child's input;

² For additional information on WCAG 2.0, please refer to https://www.w3.org/WAI/intro/wcag; for additional information on EPUB Accessibility 1.0, please refer to www.idpf.org/epub/a11y/techniques/techniques.html.

(4) Ensure that the product is both an Open Educational Resource (OER) ³ and licensed through an open access licensing authority;

³ Open Educational Resources (OER) are teaching and learning materials that you may freely use and reuse at no cost. Unlike fixed, copyrighted resources, OER have been authored or created by an individual or organization that chooses to retain few, if any, ownership rights. Retrieved from www.oercommons.org/about.

(5) Identify legal issues surrounding accessible education materials that may impede the use of the product with digital products or platforms and determine ways to ensure access for all children with disabilities;

(6) Develop measures to evaluate the potential usefulness and fit of the selected accessibility components to be included in the development and production of the software; and

(7) Maximize the efficiency of the product, by reducing the cost of including it in the production of materials (including added costs and time to re-design workflow to create the accessible materials) and ensuring optimal ease of use by end users.

In addition to these programmatic requirements, to be considered for funding under this priority, applicants must meet the application and administrative requirements in this priority, which are:

(a) Demonstrate, in the narrative section of the application under “Significance of the Project,” how the proposed project will—

(1) Address the need for adaptive software that includes a range of accessible options that allow the end user to customize the instructional material and self-adjust based on the child's input. To meet this requirement, the applicant must present information on what digital materials are currently available to educators, caregivers, parents, and children that offer specially designed instruction to meet the unique needs of children with disabilities; and

(2) Improve outcomes for children with disabilities by enhancing their ability to access instruction that meets their State's college- and career-ready standards through differentiated and customized digital materials.

(b) Demonstrate, in the narrative section of the application under “Quality of the Project Design,” how the proposed project will—

(1) Ensure that the software developed meets the needs of publishers, distributors, developers, and end users;

(2) Achieve measurable outcomes. To meet this requirement, the applicant must develop a logic model that depicts, at a minimum, the goals, activities, outputs, and outcomes of the proposed projects. A logic model used in connection with this priority communicates how a project will achieve its intended outcomes and provides a framework for both the formative and summative evaluations of the project.

Note: Rather than use the definition of “logic model” in section 77.1(c) of EDGAR, OSEP uses the definition in paragraph (b)(2) of these application requirements. This definition, unlike the definition in 34 CFR 77.1(c), differentiates between logic models and conceptual frameworks. The following Web sites provide more information on logic models: www.osepideasthatwork.org/logicModel and www.osepideasthatwork.org/resources-grantees/program-areas/ta-ta/tad-project-logic-model-and-conceptual-framework.

(3) Use an iterative process of field testing in the development of the software;

(4) Improve the capabilities of the software by describing the key components of the software that maximize the ability to adapt and customize content and to differentiate or individualize instruction in digital or online environments for children with disabilities and the specifications necessary for the software to be embedded during design;

(5) Be based on current research and technologies used to develop accessible education materials and support differentiation of instruction. To meet this requirement, the applicant must describe—

(i) How the proposed project will align to current industry standards and technical specifications in the development of the software; and

(ii) How the proposed project will work with publishers to ensure that the software can be embedded into the digital materials during initial development or retrofitting of existing materials;

(6) Meet current accessibility standards to achieve the intended outcomes of the proposed project. To address this requirement, the applicant must describe—

(i) How it proposes to identify and develop the knowledge base on designing fully accessible and customizable digital and online instructional materials; and

(ii) How it proposes to ensure that the software will appropriately tagged metadata. This metadata should allow for the evaluation of accessibility and adaptation within online and digital learning environments;

(7) Develop a computer adaptable software product that is readily available to teachers, instructors, students, and parents; can be embedded during production; meets accessibility standards; and facilitates instruction that meets the unique needs of children with disabilities. To address this requirement, the applicant must describe—

(i) How the proposed project will develop software that makes instructional material accessible based on the setting selected by the educator, caregiver, parent, or child;

(ii) How the proposed project will develop and adaptable software product that facilitates differentiated instruction by adjusting in complexity based on the child's input; and

(iii) How the proposed project will include plans for continued improvement and scale up its work to ensure the software is available to the widest range of children with disabilities;

(8) Ensure effective communication and collaboration between project staff, stakeholders, and OSEP, including other OSEP-funded projects. To address this requirement, the applicant must—

(i) Describe how the project will communicate and collaborate on an ongoing basis with other OSEP-funded projects;

(ii) Describe how the project will collaborate with publishers, Accessible Media Producers, technology developers, vendors, distributors, and others with expertise in accessible education materials production;

(iii) Describe how the project will communicate using a wide variety of media methods (presentations, publication, conference attendance, demonstrations) to reach a broad range of technology developers, publishers and end users, including educators, children with disabilities, and parents of children with disabilities; and

(c) In the narrative section of the application under “Quality of the Evaluation Plan,” include an evaluation plan for the project as described in the following paragraphs. The evaluation plan must describe: Measures of progress in implementation, including the criteria for determining the extent to which the project's research and product development have reached its target population; measures of intended outcomes or results of the project's activities in order to evaluate those activities; and how well the goals or objectives of the proposed project, as described in its logic model, have been met.

The applicant must provide an assurance that, in designing the evaluation plan, it will—

(1) Designate, with the approval of the OSEP project officer, a project liaison staff person with sufficient dedicated time, experience in evaluation, and knowledge of the project to work in collaboration with the Center to Improve Program and Project Performance (CIP3),⁴ the project director, and the OSEP project officer on the following tasks:

⁴ The major tasks of CIP3 are to guide, coordinate, and oversee the design of formative evaluations for every large discretionary investment (i.e., those awarded $500,000 or more per year and required to participate in the 3+2 process) in OSEP's Technical Assistance and Dissemination; Personnel Development; Parent Training and Information Centers; and Educational Technology, Media, and Materials programs. The efforts of CIP3 are expected to enhance individual project evaluation plans by providing expert and unbiased technical assistance in designing the evaluations with due consideration of the project's budget. CIP3 does not function as a third-party evaluator.

(i) Revise, as needed, the logic model submitted in the grant application to provide a more comprehensive measurement of implementation and outcomes and to reflect any changes or clarifications to the model discussed at the kick-off meeting and throughout the project period;

(ii) Refine the evaluation design and instrumentation proposed in the grant application consistent with the logic model (e.g., prepare evaluation questions about significant program processes and outcomes; develop quantitative or qualitative data collections that permit both the collection of progress data, including fidelity of implementation, as appropriate, and the usefulness of the software, designing instruments or identifying data sources, and identifying analytic strategies); and

(iii) Revise, as needed, the evaluation plan submitted in the grant application such that it clearly—

(A) Specifies the measures and associated instruments or sources for data appropriate to the evaluation questions, suggests analytic strategies for those data, provides a timeline for conducting the evaluation, and includes staff assignments for completion of the plan; and

(B) Can be used to assist the project director and the OSEP project officer, with the assistance of CIP3, as needed, to specify the performance measures to be addressed in the project's Annual Performance Report;

(2) Cooperate with CIP3 staff in order to accomplish the tasks described in paragraph (1) of this section; and

(3) Dedicate sufficient funds in each budget year to cover the costs of carrying out the tasks described in paragraphs (1) and (2) of this section and implementing the evaluation plan.

(d) Demonstrate, in the narrative section of the application under “Adequacy of Project Resources,” how—

(1) The proposed project will encourage applications for employment from persons who are members of groups that have traditionally been underrepresented based on race, color, national origin, gender, age, or disability, as appropriate;

(2) The proposed key project personnel, consultants, and subcontractors have the qualifications ⁵ and experience to carry out the proposed development of the software and achieve the project's intended outcomes;

⁵ This software may require extensive engineering expertise, such as computer-aided software engineering, which includes the domain of software tools used to design and implement applications, especially when embedding automated tools (e.g., accessibility tools, content adaptation tools) within information systems (e.g., online curriculum products).

(3) The applicant and any key partners have adequate resources to carry out the proposed activities; and

(4) The proposed costs are reasonable in relation to the anticipated results and benefits.

(e) Demonstrate, in the narrative section of the application under “Quality of the Management Plan,” how—

(1) The proposed management plan will ensure that the project's intended outcomes will be achieved on time and within budget. To address this requirement, the applicant must clearly describe—

(i) Clearly defined responsibilities for key project personnel, consultants, and subcontractors, as applicable; and

(ii) Timelines and milestones for accomplishing the project tasks, including an iterative process of field testing and redesigning the software throughout the five-year grant cycle to include adding more accessible features and functions to increase the capability of the software;

(2) Allocation of key project personnel and any consultants and subcontractors and how these allocations are appropriate and adequate to achieve the project's intended outcomes;

(3) The proposed management plan will ensure that the research and software development are of high quality, relevant, and useful to recipients; and

(4) The proposed project will benefit from a diversity of perspectives in the software's development and design, including those of developers; technical designers; publishers; distributors; vendors; standards consortia members; families, including those who have children with disabilities; educators, including those who serve children with disabilities; researchers; and policy makers;

(5) The proposed project will establish and maintain a technical review board. The technical review board must—

(i) Consist of no fewer than five members representing the full range of diverse stakeholders, including at least one representative from each of the following five specific groups: Technology developers; publishers; end users, including educators of children with disabilities; persons with disabilities; and parents of children with disabilities. Board members should be identified and approved by OSEP no later than six weeks from the award date;

(ii) Meet at least twice per year during the project period with the project director, relevant project staff, and the OSEP project officer;

(iii) Evaluate current technologies, standards, and guidelines that are used and applied in the production and use of educational materials to ensure that the material is accessible to children with disabilities; and

(iv) Evaluate current applications, materials, and programs that support and ensure access to educational materials.

(f) Address the following application requirements. The applicant must—

(1) Include, in Appendix A, a logic model that depicts, at a minimum, the goals, activities, outputs, and intended outcomes of the proposed project.

(2) Include, in Appendix A, personnel-loading charts and timelines, as applicable, to illustrate the management plan described in the narrative.

(3) Include, in the budget, attendance at the following:

(i) A one and one-half day kick-off meeting in Washington, DC, after receipt of the award, and an annual planning meeting in Washington, DC, with the OSEP project officer and other relevant staff during each subsequent year of the project period;

Note: Within 30 days of receipt of the award, a post-award teleconference must be held between the OSEP project officer and the grantee's project director or other authorized representative.

(ii) A two and one-half day project directors' conference in Washington, DC, during each year of the project period; and

(iii) Two annual two-day trips to attend Department briefings, Department-sponsored conferences, and other meetings, as requested by OSEP;

(4) Include, in the budget, a line item for an annual set-aside of five percent of the grant amount to support emerging needs that are consistent with the proposed project's intended outcomes, as those needs are identified in consultation with and approved by the OSEP project officer. With approval from the OSEP project officer, the project must reallocate any remaining funds from this annual set-aside no later than the end of the third quarter of each budget period; and

(5) Maintain a high-quality Web site, with an easy-to-navigate design, that meets government or industry-recognized standards for accessibility.

References

Evergreen Education Group. (2014). Keeping pace with K-12 digital learning 2014: An annual review of policy and practice. Retrieved from http://www.kpk12.com/wp-content/uploads/EEG_KP2014-fnl-lr.pdf.

Evergreen Education Group. (2013). Keeping pace with K-12 digital learning 2013: An annual review of policy and practice. Retrieved from http://www.kpk12.com/wp-content/uploads/EEG_KP2013-lr.pdf.

National Center for Education Statistics. (2016). Students with disabilities. Retrieved from https://nces.ed.gov/fastfacts/display.asp?id=64.

Westat. 2016. Online learning and IDEA educational environments: Determining educational environments for students with disabilities. Retrieved from https://ideadata.org/files/resources/581e7a0a140ba0f0248b4585/5852ca01150ba09f4e8b4576/online-learning-idea-educational-environ/2016/12/15/online-learning-idea-educational-environ.pdf.

Waiver of Proposed Rulemaking: Under the Administrative Procedure Act (APA) (5 U.S.C. 553) the Department generally offers interested parties the opportunity to comment on proposed priorities and requirements. Section 681(d) of IDEA, however, makes the public comment requirements of the APA inapplicable to the priority in this notice.

Program Authority: 20 U.S.C. 1474 and 1481.

Applicable Regulations: (a) The Education Department General Administrative Regulations (EDGAR) in 34 CFR parts 75, 77, 79, 81, 82, 84, 86, 97, 98, and 99. (b) The OMB Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian tribes.

Note: The regulations in 34 CFR part 86 apply to institutions of higher education (IHEs) only.

II. Award Information

Type of Award: Cooperative agreement.

Estimated Available Funds: The Further Continuing and Security Assistance Appropriations Act, 2017, would provide, on an annualized basis, $30,047,000 for the Educational Technology, Media, and Materials for Individuals with Disabilities program, of which we would use an estimated $1,000,000 for this competition. The actual level of funding, if any, depends on final congressional action. However, we are inviting applications to allow enough time to complete the grant process if Congress appropriates funds for this program.

Contingent upon the availability of funds and the quality of applications, we may make additional awards in FY 2018 from the list of unfunded applications from this competition.

Maximum Award: We will reject any application that proposes a budget exceeding $1,000,000 for a single budget period of 12 months.

Estimated Number of Awards: 1.

Note: The Department is not bound by any estimates in this notice.

Project Period: Up to 60 months.

III. Eligibility Information

1. Eligible Applicants: State educational agencies (SEAs); local educational agencies (LEAs), including public charter schools that are considered LEAs under State law; IHEs; other public agencies; private nonprofit organizations; freely associated States and outlying areas; Indian tribes or tribal organizations; and for-profit organizations.

2. Cost Sharing or Matching: This program does not require cost sharing or matching.

3. Eligible Subgrantees: (a) Under 34 CFR 75.708(b) and (c) a grantee may award subgrants—to directly carry out project activities described in its application—to the following types of entities: IHEs and private nonprofit organizations suitable to carry out the activities proposed in the application.

(b) The grantee may award subgrants to entities it has identified in an approved application.

4. Other General Requirements:

(a) Recipients of funding under this competition must make positive efforts to employ and advance in employment qualified individuals with disabilities (see section 606 of the IDEA).

(b) Each applicant for, and recipient of, funding must, with respect to the aspects of their proposed project relating to the absolute priority, involve individuals with disabilities, or parents of individuals with disabilities ages birth through 26, in planning, implementing, and evaluating the project (see section 682(a)(1)(A) of IDEA).

IV. Application and Submission Information

1. Address to Request Application Package: You can obtain an application package via the internet or from the Education Publications Center (ED Pubs). To obtain a copy via the internet, use the following address: www.ed.gov/fund/grant/apply/grantapps/index.html. To obtain a copy from ED Pubs, write, fax, or call: ED Pubs, U.S. Department of Education, P.O. Box 22207, Alexandria, VA 22304. Telephone, toll free: 1-877-433-7827. FAX: (703) 605-6794. If you use a TDD or a TTY, call, toll free: 1-877-576-7734.

You can contact ED Pubs at its Web site, also: www.EDPubs.gov or at its email address: edpubs@inet.ed.gov.

If you request an application package from ED Pubs, be sure to identify this competition as follows: CFDA number 84.327A.

Individuals with disabilities can obtain a copy of the application package in an accessible format (e.g., Braille, large print, audiotape, or compact disc) by contacting the person or team listed under Accessible Format in section VII of this notice.

2. Content and Form of Application Submission: Requirements concerning the content and form of an application, together with the forms you must submit, are in the application package for this competition.

Page Limit: The application narrative (Part III of the application) is where you, the applicant, address the selection criteria that reviewers use to evaluate your application. We recommend that you (1) limit Part III to no more than 70 pages, and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to Part I, the cover sheet; Part II, the budget section, including the narrative budget justification; Part IV, the assurances and certifications; or the abstract (follow the guidance provided in the application package for completing the abstract), the table of contents, the list of priority requirements, the resumes, the reference list, the letters of support, or the appendices. However, the recommended page limit does apply to all of Part III, the application narrative, including all text in charts, tables, figures, graphs, and screen shots.

3. Submission Dates and Times:

Applications Available: May 24, 2017.

Deadline for Transmittal of Applications: July 10, 2017.

Applications for grants under this competition must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under FOR FURTHER INFORMATION CONTACT. If the Department provides an accommodation or auxiliary aid to an individual with a disability in connection with the application process, the individual's application remains subject to all other requirements and limitations in this notice.

Deadline for Intergovernmental Review: September 6, 2017.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this competition must be submitted electronically unless you qualify for an exception to this requirement in accordance with the instructions in this section.

a. Electronic Submission of Applications.

Applications for grants under the Research and Development Center on Developing Software to Adapt and Customize Instruction in Digital Learning Environments to Improve Results for Children with Disabilities competition, CFDA number 84.327A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement.

You may access the electronic grant application for the Research and Development Center on Developing Software to Adapt and Customize Instruction in Digital Learning Environments to Improve Results for Children with Disabilities competition at www.Grants.gov. You must search for the downloadable application package for this competition by the CFDA number. Do not include the CFDA number's alpha suffix in your search (e.g., search for 84.327, not 84.327A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a read-only Portable Document Format (PDF). Do not upload an interactive or fillable PDF file. If you upload a file type other than a read-only PDF (e.g., Word, Excel, WordPerfect, etc.) or submit a password-protected file, we will not review that material. Please note that this could result in your application not being considered for funding because the material in question—for example, the application narrative—is critical to a meaningful review of your proposal. For that reason it is important to allow yourself adequate time to upload all material as PDF files. The Department will not convert material from other formats to PDF. Additional, detailed information on how to attach files is in the application instructions.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the internet to submit your application.

If you mail your written statement to the Department, it must be postmarked no later than two weeks before the application deadline date. If you fax your written statement to the Department, we must receive the faxed statement no later than two weeks before the application deadline date.

Address and mail or fax your statement to: Tara Courchaine, U.S. Department of Education, 400 Maryland Avenue SW., Room 5143, Potomac Center Plaza, Washington, DC 20202-TBD. FAX: (202) 245-7590.

Your paper application must be submitted in accordance with the mail or hand-delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.327A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application by hand, on or before the application deadline date, to the Department at the following address: U.S. Department of Education, Application Control Center, Attention: (CFDA Number 84.327A), 550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for this competition are as follows:

(a) Significance (20 points).

(1) The Secretary considers the significance of the proposed project.

(2) In determining the significance of the proposed project, the Secretary considers the following factors:

(i) The potential contribution of the proposed project to increasing the knowledge or understanding of problems issues or effective strategies.

(ii) The likely utility of the product (such as information, materials, processes, or techniques) that will result from the proposed project, including the potential for it being used effectively in a variety of settings.

(iii) The extent to which the results of the proposed project are disseminated in ways that will enable others to use the information or strategies.

(b) Quality of project design (20 points).

(1) The Secretary considers the quality of the services to be provided by the proposed project.

(2) In addition, the Secretary considers the following factors:

(i) The extent to which the goals, objectives, and outcomes to be achieved by the proposed project are clearly specified and measurable.

(ii) The extent to which there are (1) a logic model that depicts, at a minimum, the project's proposed goals, activities, outputs, and outcomes; and (2) a conceptual framework underlying the proposed activities and the quality of that model and framework.

(iii) The extent to which the services to be provided by the proposed project reflect up-to-date knowledge and understanding of current research and development in the field; are highly relevant and useful to educators, children, and parents; and are delivered in a timely, cost-efficient manner.

(iv) The extent to which the proposed project includes a thorough, high-quality plan for project implementation, and the use of appropriate tools to ensure successful achievement of project objectives.

(v) The extent to which the proposed development efforts include adequate quality controls, and as appropriate, repeated testing of products.

(vi) The extent to which the services provided by the proposed project involve the collaboration of appropriate partners for maximizing the effectiveness of project services.

(c) Quality of the evaluation plan (15 points).

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation will provide data and performance feedback for examining the effectiveness of project implementation strategies and the progress toward achieving intended outcomes.

(iii) The extent to which the methods of evaluation will produce quantitative and qualitative data that provide continuous performance feedback and demonstrate that the project has met intended outcomes.

(iv) The extent to which the methods of evaluation will provide timely guidance for quality assurance.

(d) Adequacy of project resources (25 points).

(1) The Secretary considers the adequacy of resources, including the personnel who will carry out the proposed project.

(2) In determining the adequacy of resources, the Secretary considers the extent to which the applicant encourages applications for employment from persons who are members of groups that have traditionally been underrepresented based on race, color, national origin, gender, age, or disability.

(3) In addition, the Secretary considers the following factors:

(i) The qualifications, including relevant training and experience, of key project personnel (i.e., project director, project and staff).

(ii) The qualifications, including relevant training and experience of project consultants or subcontractors.

(iii) The adequacy of support, including facilities, equipment, supplies, and other resources, from the applicant organization and key partners.

(iv) The extent to which the costs are reasonable in relation to the anticipated results and benefits.

(e) Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director, project staff, and project consultants or subcontractors are appropriate and adequate to meet the objectives of the proposed project.

(iii) The adequacy of mechanisms for ensuring high-quality products and services from the proposed project.

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department of Education (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Special Conditions: Consistent with 2 CFR 200.205, before awarding grants under this competition the Department conducts a review of the risks posed by applicants. Under 2 CFR 3474.10, the Secretary may impose special conditions and, in appropriate circumstances, high risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $150,000), under 2 CFR 200.205(a)(2), we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

4. Performance Measures: Under the Government Performance and Results Act of 1993, the Department has established a set of performance measures, including long-term measures, that are designed to yield information on various aspects of the effectiveness and quality of the Educational Technology, Media, and Materials for Individuals with Disabilities Program. These measures are included in the application package and focus on the extent to which projects are of high quality, are relevant to improving outcomes of children with disabilities, contribute to improving outcomes for children with disabilities, and generate evidence of validity and availability to appropriate populations. Projects funded under this competition are required to submit data on these measures as directed by OSEP.

Grantees will be required to report information on their project's performance in annual performance reports and additional performance data to the Department (34 CFR 75.590 and 75.591).

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., braille, large print, audiotape, or compact disc) by contacting the Management Support Services Team, U.S. Department of Education, 400 Maryland Avenue SW., Room 5113, Potomac Center Plaza, Washington, DC 20202-2500. Telephone: (202) 245-7363. If you use a TDD or a TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or PDF. To use PDF you must have Adobe Acrobat Reader, which is available free at the site.

You may also access documents of the Department published in the Federal Register by using the article search feature at: www.federalregister.gov. Specifically, through the advanced search feature at this site, you can limit your search to documents published by the Department.

Dated: May 19, 2017.
Ruth E. Ryder,
Deputy Director, Office of Special Education Programs, delegated the duties of the Assistant Secretary for Special Education and Rehabilitative Services.

[FR Doc. 2017-10663 Filed 5-23-17; 8:45 am]

BILLING CODE 4000-01-P